FEDERAL COMMUNICATIONS COMMISSION

Notice of Public Information Collection(s) Being Reviewed by the Federal Communications Commission for Extension Under Delegated Authority, Comments Requested

March 15, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments May 28, 2002. If you anticipate that you will be submitting comments, but find it difficult to do so within the period of time allowed by this notice, you should advise the contact listed below as soon as possible.

ADDRESSES: Direct all comments to Judy Boley Herman, Federal Communications Commission, 445 12th Street, SW., Room 1-C804, Washington, DC 20554 or via the Internet to jbherman@fcc.gov.

FOR FURTHER INFORMATION CONTACT: For additional information or copies of the information collections contact Judy Boley Herman at 202-418-0214 or via the Internet at jbherman@fcc.gov.

SUPPLEMENTARY INFORMATION: OMB Control No.: 3060-0386.

Title: Section 74.1635, Special Temporary Authorizations (STA's).

Form No.: N/A.

Type of Review: Extension of a currently approved collection.

Respondents: Business or other for profit, not-for-profit institutions.

Number of Respondents: 1,550.

Estimated Time Per Response: 1-4 hours (avg.).

Total Annual Burden: 2,000 hours.

Annual Reporting and Recordkeeping Cost Burden: $919,955.

Frequency of Response: On occasion reporting requirement.

Needs and Uses: Section 73.1635 allows licensees/permittees of broadcast stations to file for special temporary authority to operate broadcast stations at specified variances from station authorization not to exceed 180 days. Data are used by FCC staff to ensure that such operation will not cause interference to other stations.

OMB Control No.: 3060-1004.

Title: Orders Re: E911 Waivers.

Form No.: N/A.

Type of Review: Extension of a currently approved collection.

Respondents: Business or other for profit, not-for-profit institutions, state, local and tribal government.

Number of Respondents: 22.

Estimated Time Per Response: 5 hours.

Total Annual Burden: 110 hours.

Annual Reporting and Recordkeeping Cost Burden: $0.

Frequency of Response: Quarterly and semi-annual reporting requirements, recordkeeping requirement.

Needs and Uses: The quarterly and supplemental reports will be used by the Commission to monitor carrier progress in transition to E911, and thus ensure that this important effort will continue in an orderly and timely fashion. The Commission received emergency approval from the Office of Management and Budget (OMB) on February 14, 2002 (67 FR 09450, 3/1/02).

Comments submitted regarding these paperwork burdens will be reflected in the Commission's request for the three-year approval under the Paperwork Reduction Act.

Federal Communications Commission.
William F. Caton,
Acting Secretary.

[FR Doc. 02-7261 Filed 3-26-02; 8:45 am]

BILLING CODE 6712-01-P